DEPARTMENT OF DEFENSE

Department of the Army, Corps of Engineers

Notice of Availability of the Draft Supplemental Environmental Impact Statement for the Proposed Baseload Power Plant, East Kentucky Power Cooperative, Inc., Clark County, KY

AGENCY: U.S. Army Corps of Engineers, DoD.

ACTION: Notice of availability.

SUMMARY: The U.S. Army Corps of Engineers (USACE), in accordance with 42 U.S.C. 4321 to 4370(f), is issuing this notice to advise the public that a Draft Supplemental Environmental Impact Statement (SEIS) has been prepared and is available for review and comment.

DATES: Written comments on the Draft SEIS will be accepted for 45 days following publication of the Environmental Protection Agency's notice of availability for the Draft SEIS in the Federal Register. The USACE will hold a public hearing at 7 p.m. (EDT) on June 8, 2010.

ADDRESSES: The Draft SEIS can be viewed online at: http://www.ekpc.coop/smith-unit1.html. The Draft SEIS will also be available for viewing at the locations listed in the Supplementary Information section. Comments should be submitted to Mr. Michael Hasty, Acting Chief, South Section, Regulatory Branch, Louisville District, P.O. Box 59, Louisville, KY 40201-0059. The Public Hearing will be held at the Clark County Extension Service office located at 1400 Fortune Drive in Winchester KY 40391.

FOR FURTHER INFORMATION CONTACT: Mr. Michael Hasty, Acting Chief, South Section, Regulatory Branch, Louisville District, P.O. Box 59, Louisville, KY 40201-0059. Phone (502) 315-6676, e-mail: michael.d.hasty@usace.army.mil.

SUPPLEMENTARY INFORMATION: A final EIS and Record of Decision was prepared by the U.S. Department of Energy in 2002/2003 for a proposed 540 megawatt coal-fired integrated gasification combined cycle (IGCC) electric generating plant at the same location, the Smith Site. That project, known as the Kentucky Pioneer IGCC Demonstration Project, was never built. The Corps has reviewed the EIS prepared by DOE and, based on similarities between the two projects, has determined to adopt that EIS as the basis for review of the current proposal. The Corps is preparing this Supplemental EIS (SEIS) to evaluate those aspects of the current proposal that are not substantially similar to the DOE project, as a result of changes in project parameters, existing environmental conditions, and relevant laws and regulations.

East Kentucky Power Cooperative, Inc. (EKPC) has applied for a Department of the Army (DA) permit from the U.S. Army Corps of Engineers (Corps) to authorize unavoidable impacts to jurisdictional waters of the U.S. pursuant to Section 404 of the Clean Water Act (Section 404) and Section 10 of the Rivers and Harbors Act (Section 10).

EKPC's Proposed Action, and the subject of the Draft SEIS, is to construct and operate a 278 megawatt circulating fluidized bed electric generating unit (CFB) and associated infrastructure at the existing J.K. Smith Power Station (the Smith Site) in southern Clark County, Kentucky. In addition to the CFB unit, other components of the Proposed Action on the Smith Site include: An approximately one-mile, 345 kV electric transmission line; two (2) beneficial reuse structural fills using coal combustion by-products (CCB); two (2) landfills for the on-site disposal of CCB; an emergency drought water storage reservoir; several soil borrow areas for landfill cover and other site development uses; and a new water intake/outfall structure in the Kentucky River.

The Proposed Action is needed to provide sufficient electric generating capacity to meet the projected baseload electric power needs of EKPC's rural member distribution cooperatives in the year 2013.

As proposed, the project would impact approximately 4.8 acres of jurisdictional wetlands and 75,495 linear feet of jurisdictional streams, including 17,811 linear feet of perennial stream. The construction of the intake/outfall structure would impact the Kentucky River, a navigable waterway. A separate Public Notice has been prepared announcing these proposed “waters of the United States” impacts and the requested DA permit. Construction of the Kentucky River intake structure and the dam and reservoir would result in floodplain impacts. Measures to minimize and mitigate the proposed impacts are included in the Draft SEIS.

The USACE has determined that the construction of this undertaking (Proposed Action) would have an adverse effect on two archaeological properties determined eligible for listing in the National Register of Historic Places. The USACE has consulted with the Kentucky State Historic Preservation Officer (SHPO) in accordance with 36 CFR part 800, has invited tribes with an interest in the area to participate in government-to-government consultation, and is working with the Kentucky SHPO and other interested parties to enter into a memorandum of agreement to address mitigation of the properties that would be affected if the Proposal is implemented.

The Draft SEIS considered 17 technology alternatives; several alternatives that did not include EKPC's construction of a new baseload plant; adding capacity at an existing EKPC facility; and a number of siting alternatives as means of responding to the identified purpose and need for the project. These alternatives were evaluated in terms of cost-effectiveness, technical feasibility, and environmental soundness. The Draft SEIS analyzes in detail the Proposal, two alternative technologies, IGCC and natural gas combined cycle, and the no action alternative.

Copies of the Draft SEIS are available for review at the following libraries (hours vary; contact individual repositories for available times):

1. Clark County Public Library, 370 South Burns Avenue, Winchester, KY 40391-1876, Phone (859) 744-5661.

2. Estill County Public Library, 246 Main Street, Irvine, KY 40336, Phone (606) 723-3030.

3. Lexington Public Library, 140 East Main Street, Lexington, KY 40507, Phone (859) 231-5520.

4. Madison County Public Library, 507 West Main Street, Richmond, KY 40475, Phone (859) 623-6704.

5. Mt. Sterling-Montgomery County Library, 241 West Locust Street, Mt. Sterling, KY 40353, Phone (859) 498-2404.

6. Paris-Bourbon County Public Library, 701 High Street, Paris, KY 40361, Phone (859) 987-4419.

7. Powell County Public Library, 725 Breckenridge Street, Stanton, KY 40380, Phone (606) 663-4511.

With this notice, the USACE invites any affected Federal, State, and local agencies and other interested persons to comment on the Draft SEIS. Written comments on the Draft SEIS will be accepted for 45 days following publication of the Environmental Protection Agency's notice of availability for the Draft SEIS in the Federal Register. The USACE will hold a public hearing at 7 p.m. on June 8, 2010 at the Clark County Extension Service, 1400 Fortune Drive, Winchester KY 40391. The hearing will include a presentation summarizing the proposed project and the findings of the Draft SEIS. The hearing will also provide attendees with an opportunity to submit both oral and written comments.

Dated: April 2, 2010.
Keith A. Landry,
Colonel, Corps of Engineers, District Commander.

[FR Doc. 2010-8179 Filed 4-8-10; 8:45 am]

BILLING CODE 3720-58-P